DEPARTMENT OF THE INTERIOR

National Park Service

Notice of Availability Draft Environmental Impact Statement and White-Tailed Deer Management Plan; Rock Creek Park, Washington, DC

AGENCY: National Park Service, Department of the Interior.

ACTION: Notice of Availability of a Draft Environmental Impact Statement and White-Tailed Deer Management Plan for Rock Creek Park, Washington, DC.

SUMMARY: Pursuant to the National Environmental Policy Act of 1969, 42 U.S.C. 4332(2)(C), the National Park Service announces the availability of a Draft Environmental Impact Statement (DEIS) and White-tailed Deer Management Plan for Rock Creek Park, Washington, District of Columbia. The White-tailed Deer Management Plan will support long-term protection, preservation, and restoration of native vegetation and other natural and cultural resources in Rock Creek Park. The DEIS describes four management alternatives, including the No Action Alternative (continue existing management) and three Action Alternatives, one of which is identified as the preferred alternative.

DATES: A Notice of Intent (NOI) was published in the Federal Register on September 20, 2006 (71 FR 182). A 60-day comment period was begun when the NOI was published. Public scoping meetings were held at the Rock Creek Park Nature Center November 1-2, 2006. Responses to public comment are addressed in the DEIS. The NPS will accept public comments on the DEIS until September 8, 2009. In addition, public meetings will be conducted at the Rock Creek Park Nature Center. Details on these public meetings will be available in local newspapers, on the NPS Web site http://www.nps.gov/rocr, or by contacting staff at Rock Creek Park by telephone at (202) 895-6000.

ADDRESSES: The DEIS and White-tailed Deer Management Plan will be available for public review on the NPS Planning, Environment and Public Comment (PEPC) Web site at http://parkplanning.nps.gov/rocr by selecting the link “Deer Management Plan for Rock Creek Park.” Bound copies of the DEIS and White-tailed Deer Management Plan will also be available at the Rock Creek Park Nature Center, 5200 Glover Road, NW., Washington, DC; at Rock Creek Park Headquarters, 3545 Williamsburg Lane, NW., Washington, DC; and at public libraries adjacent to Rock Creek Park.

FOR FURTHER INFORMATION CONTACT: Adrienne A. Coleman, Superintendent, Rock Creek Park, 3545 Williamsburg Lane, NW., Washington, DC 20008, (202) 895-6000.

Before including your address, phone number, e-mail address, or other personal identifying information in your comment, you should be aware that your entire comment—including your personal identifying information—may be made publicly available at any time. Although you can ask us in your comment to withhold your personal identifying information from public review, we cannot guarantee that we will be able to do so. We will make all submissions from organizations, businesses, or individuals identifying themselves as representatives or officials of organizations or businesses, available for public inspection in their entirety.

SUPPLEMENTARY INFORMATION: The DEIS evaluates four alternatives for managing white-tailed deer in the park. The document describes and analyzes the environmental impacts of the No-Action Alternative and three Action Alternatives. When approved, the plan will guide deer management actions in Rock Creek Park over the next 15 years.

Alternative A (No Action) would continue the existing deer management actions and policies of monitoring vegetation, deer density and relative numbers, using limited protection fencing and deer repellents to protect rare plants in natural areas and small areas in landscaped and cultural areas, data management, continuing current educational and interpretive measures, as well as inter-jurisdictional communication; no new deer management actions would be implemented.

Alternative B would include all actions described under Alternative A, but would incorporate several non-lethal actions to protect forest seedlings, promote forest regeneration, and gradually reduce the deer numbers in the park. Additional actions under Alternative B would include large-scale exclosures (fencing) and reproductive control of does via sterilization and immunocontraceptives when feasible.

Alternative C would include all actions described under Alternative A, but would also incorporate two lethal deer management actions to reduce the herd size. Additional actions under Alternative C would include reduction of the deer herd by either sharpshooting or capture and euthanasia of individual deer. Capture and euthanasia of individual deer would be an approach used in limited circumstances where sharpshooting may not be appropriate.

Alternative D (the NPS Preferred Alternative) would include all actions described under Alternative A, but would also include a combination of certain additional lethal and non-lethal actions from Alternatives B and C to reduce deer herd numbers. The lethal actions would include both sharpshooting and capture/euthanasia and would be taken initially to quickly reduce the deer herd numbers. Population maintenance would be conducted via reproductive control methods if these are available and feasible. Sharpshooting would be used as a default option for maintenance if reproductive control methods would prove to be unavailable and infeasible. Alternative D would fully meet the plan objectives and has more certainty of success than the other alternatives analyzed. The relatively rapid reduction in both deer density and browsing pressure on native plant communities and species of special concern would provide beneficial impacts to the natural and cultural resources of the park.

Dated: May 1, 2009.
Margaret O'Dell,
Regional Director, National Capital Region.

[FR Doc. E9-16328 Filed 7-9-09; 8:45 am]

BILLING CODE 4312-34-P